OFFICE OF THE UNITED STATES TRADE REPRESENTATIVE

Reallocation of Unused Fiscal Year 2010 Tariff-Rate Quota Volume for Raw Cane Sugar

AGENCY: Office of the United States Trade Representative.

ACTION: Notice.

SUMMARY: The Office of the United States Trade Representative (USTR) is providing notice of country-by-country reallocations of the fiscal year (FY) 2010 in-quota quantity of the tariff-rate quota (TRQ) for imported raw cane sugar.

DATES: Effective Date: March 25, 2010.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, 202-395-6127.

SUPPLEMENTARY INFORMATION: Pursuant to Additional U.S. Note 5 to chapter 17 of the Harmonized Tariff Schedule of the United States (HTS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On September 29, 2009, the Secretary of Agriculture established the FY 2010 TRQ for imported raw cane sugar at the minimum amount to which the United States committed to pursuant to the World Trade Organization (WTO) Uruguay Round Agreements (1,117,195 metric tons raw value (MTRV)). On October 6, 2009, USTR provided notice of country-by-country allocations of the FY 2010 in-quota quantity of the TRQ for imported raw cane sugar. Based on consultation with quota holders, USTR has determined to reallocate 81,946 MTRV of the original TRQ quantity from those countries that have stated they will be unable to fill their FY 2010 allocated raw cane sugar quantities. USTR is allocating the 81,946 MTRV to the following countries in the amounts specified below:

*
Country | FY 2010 reallocation
Argentina | 3,729
Australia | 7,197
Belize | 954
Bolivia | 694
Brazil | 12,574
Colombia | 2,081
Costa Rica | 1,301
Dominican Republic | 15,262
Ecuador | 954
El Salvador | 2,255
Guatemala | 4,162
Guyana | 1,041
Honduras | 867
India | 694
Jamaica | 954
Malawi | 867
Mozambique | 1,127
Nicaragua | 1,821
Panama | 2,515
Peru | 3,555
Philippines | 11,706
South Africa | 1,994
Swaziland | 1,387
Thailand | 1,214
Zimbabwe | 1,041

These allocations are based on the countries' historical shipments to the United States. The allocations of the raw cane sugar TRQ to countries that are net importers of sugar are conditioned on receipt of the appropriate verifications of origin and certificates for quota eligibility must accompany imports from any country for which an allocation has been provided.

Conversion factor: 1 metric ton = 1.10231125 short tons.

Ronald Kirk,
United States Trade Representative.

[FR Doc. 2010-6599 Filed 3-24-10; 8:45 am]

BILLING CODE 3190-W0-P